DEPARTMENT OF DEFENSE

Office of the Secretary

[Transmittal Nos. 11-51]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-51 with attached transmittal, policy justification, and Sensitivity of Technology.

Dated: December 21, 2011.
Aaron Siegel,
Alternate OSD Federal Register Liaison Officer, Department of Defense.

Transmittal No. 11-51

Notice of Proposed Issuance of Letter of Offer Pursuant to Section 36(b)(1) of the Arms Export Control Act, as amended

(i) Prospective Purchaser: Australia

(ii) Total Estimated Value:

Major Defense Equipment * | $514 million
Other | 436 million
Total | 950 million
* as defined in Section 47(6) of the Arms Export Control Act.

(iii) Description and Quantity or Quantities of Articles or Services Under Consideration for Purchase: 10 C-27J aircraft; 23 AE2100D2 Rolls Royce engines; 12 Electronic Warfare Self Protection Suites; 12 AAR-47A(V)2 Missile Warning Systems; 12 ALE-47(V) Threat Adaptive Countermeasures Dispensing Systems; 12 APR-39 Radar Warning Receivers; 13 AN/APN-241 Radar Systems; 44 AN/ARC-210 Warrior Very High Frequency/Ultra High Frequency Communication Systems; 12 KY-100 Units; 12 HF 9550 Radios; 12 APX-119 Identification Friend or Foe (Mode 4); 14 Blue Force Trackers; 12 Portable Flight Mission Planning Systems; support and test equipment; repair and return; spare and repair parts; aircraft ferry and tanker support; personnel training and training equipment; publications and technical data; Operational Flight Simulator, Fuselage, and Maintenance trainers; U.S. Government and contractor representative engineering, logistics, and technical support services; and other related elements of logistics and program support.

(iv) Military Department: Air Force. (SGU).

(v) Prior Related Cases, if any: None.

(vi) Sales Commission, Fee, etc., Paid, Offered, or Agreed to be Paid: None.

(vii) Sensitivity of Technology Contained in the Defense Articles or Defense Services Proposed to be Sold: See Annex attached.

(viii) Date Report Delivered to Congress: 16 December 2011.

POLICY JUSTIFICATION

Australia—C-27J Aircraft and Related Support

The Government of Australia requested a possible sale of 10 C-27J aircraft; 23 AE2100D2 Rolls Royce engines; 12 Electronic Warfare Self Protection Suites; 12 AAR-47A(V)2 Missile Warning Systems; 12 ALE-47(V) Threat Adaptive Countermeasures Dispensing Systems; 12 APR-39B(V)2 Radar Warning Receivers; 13 AN/APN-241 Radar Systems; 44 AN/ARC-210 Warrior Very High Frequency/Ultra High Frequency Communication Systems; 12 KY-100 Units; 12 HF 9550 Radios; 12 APX-119 Identification Friend or Foe (Mode 4); 14 Blue Force Trackers; 12 Portable Flight Mission Planning Systems; support and test equipment; repair and return; spare and repair parts; aircraft ferry and tanker support; personnel training and training equipment; publications and technical data; Operational Flight Simulator, Fuselage, and Maintenance trainers; U.S. Government and contractor representative engineering, logistics, and technical support services; and other related elements of logistics and program support. The estimated cost is $950 million.

Australia is one of our most important allies in the Western Pacific. The strategic location of this political and economic power contributes significantly to ensuring peace and economic stability in the region. Australia views interoperability with U.S. Forces as an important goal and objective for equipment acquisition. On November 16, President Obama announced the deployment of a U.S. Marine Ground Air Task Force to Darwin which will also include increased rotations of U.S. aircraft to facilitate collaboration and greater opportunities for combined training and exercises. Accordingly, and in line with the overall procurement strategy, Australia seeks an acquisition FMS case that supports the procurement of the C-27J aircraft.

The proposed sale will allow the Australian Defense Force (ADF) to improve its capability to meet current and future air mobility needs and humanitarian operations and disaster relief efforts in Southeast Asia. The ADF retired its fleet of 14 DHC-4 Caribou aircraft in 2009 and will soon retire 12 C-130H aircraft. The proposed sale of C-27J's will provide the capability needed to meet operational needs and emerging requirement. Australia will have no difficulty absorbing the C-27J and support into its armed forces.

The proposed sale of this equipment and support will not alter the basic military balance in the region.

The prime contractor will be L3 Integrated Systems Group in Waco, Texas. There are no known offset agreements proposed in connection with this potential sale.

Implementation of this proposed sale will not require the assignment of any additional U.S. Government or contractor representatives to Australia.

There will be no adverse impact on U.S. defense readiness as a result of this proposed sale.

Transmittal No. 11-51

Notice of Proposed Issuance of Letter of Offer Pursuant to Section 36(b)(1) of the Arms Export Control Act

Annex

Item No. vii

(vii) Sensitivity of Technology:

1. The C-27J is a fixed wing cargo aircraft platform with multi-purposes to include: passenger and cargo movement, combat employment and sustainment, aeromedical evacuation (humanitarian assistance), special operations support and operational support airlift (airdrop operations) in support of the range of military operations. The C-27J is capable of rapid strategic delivery with a maximum payload of 26,000 lbs and a maximum takeoff weight of 67,000 lbs to support the various mission/operational support requirements to advance personnel and equipment to main operating bases or forward operating locations. The aircraft is capable of enhanced takeoff and landing performance; short field landings with a full cargo load to include unimproved landings and takeoffs. Finally, the aircraft can perform tactical airlift and airdrop missions and can also transport litters and ambulatory patients during aeromedical evacuation when required. A fully integrated electronic cockpit and advanced cargo delivery system allow a crew of four: pilot, copilot, and two loadmasters, to operate the aircraft on any type of mission.

2. The AN/ALE-47 Countermeasures Dispensing System (CMDS) is an integrated, threat-adaptive, software-programmable dispensing system capable of dispensing chaff, flares, and active radio frequency expendables. The threats countered by the CMDS include radar-directed anti-aircraft artillery, radar command-guided missiles, radar homing guided missiles, and infrared guided missiles. The system is internally mounted and may be operated as a stand-alone system or may be integrated with other on-board electronic warfare and avionics systems. CMDS uses threat data received over the aircraft interfaces to assess the threat situation and to determine a response. Expendable routines tailored to the immediate aircraft and threat environment may be dispensed using one of four operational modes. The hardware is Unclassified. The software is classified Secret. Technical data and documentation to be provided is Unclassified.

3. The AN/AAR-47 missile warning system is a small, lightweight, passive, electro-optic, threat warning device used to detect surface-to-air missiles fired at helicopters and low-flying fixed-wing aircraft and automatically provide countermeasures, as well as, audio and visual-sector warning messages to the aircrew. The basic system consists of multiple Optical Sensor Converter (OSC) units, a Computer Processor (CP) and a Control Indicator (CI). The set of OSC units, which normally consist of four, is mounted on the aircraft exterior to provide omni-directional protection.

The OSC detects the rocket plume of missiles and sends appropriate signals to the CP for processing. The CP analyzes the data from each OSC and automatically deploys the appropriate countermeasures. The CP also contains comprehensive BIT circuitry. The CI displays the incoming direction of the threat, so that the pilot can take appropriate action. The hardware is Unclassified. The software is classified Secret. Technical data and documentation to be provided is Unclassified.

4. The AN/APR-39 Radar Warning Receiver (RWR)/Electronic Warfare Management System (EWMS) is fixed on various fixed/rotary/tilt-wing aircraft. It manages the Integrated Sensors and Countermeasures (SISCM) by integrating and displaying aural and visual from onboard sensors. It also automatically initiates countermeasures or, in its semi-auto mode, is crew selectable. The SISCM provides full mission data recording to include all sensor information, as well as, other mission data such as Global Positioning Systems (GPS), time, and maintenance activity.

5. The Blue Force Tracker (BFT 1) System is used to denote a GPS enabled system that provides military commanders and forces with location information about military forces. The BFT is a subsystem of the Force XXI Battlefield Command Brigade and Below (FBCB2). The C-27J FBCB2 and BFT is integrated on other Ground and Aviation platforms such as the UH-60H, V-22, E-8, and AH-64D weapon systems. The FBCB2 BFT system consists of four subsystems: Mobile Tracking and Messaging, GPS, Network and Digital Group, and Electronic Data Manager (EDM). The system displays the location of the host vehicle on the computer's terrain-map display, along with the locations of other platforms in their respective locations. It can also be used to send and receive simple text and imagery messages. FBCB2 BFT has a mechanism for reporting the locations of enemy forces and other battlefield conditions.

6. If a technologically advanced adversary were to obtain knowledge of the specific hardware and software elements, the information could be used to develop countermeasures which might reduce weapon system effectiveness or be used in the development of a system with similar or advanced capabilities.

[FR Doc. 2011-33177 Filed 12-27-11; 8:45 am]

BILLING CODE 5001-06-P